DEPARTMENT OF HEALTH AND HUMAN SERVICES

National Institutes of Health

Center for Scientific Review; Amended Notice of Meeting

Notice is hereby given of a change in the meeting of the Center for Scientific Review Special Emphasis Panel, December 4, 2009, 8 a.m. to December 4, 2009, 7 p.m., Hyatt Regency Bethesda, One Bethesda Metro Center, 7400 Wisconsin Avenue, Bethesda, MD, 20814 which was published in the Federal Register on November 2, 2009, 74 FR 56652-56653.

The meeting will be held at The Renaissance M Street Hotel, 1143 New Hampshire Avenue, NW., Washington, DC 20037. The meeting date and time remain the same. The meeting is closed to the public.

Dated: November 9, 2009.
Anna Snouffer,
Deputy Director, Office of Federal Advisory Committee Policy.

[FR Doc. E9-27433 Filed 11-13-09; 8:45 am]

BILLING CODE 4140-01-P